DEPARTMENT OF COMMERCE

International Trade Administration

[A-570-881]

Malleable Cast Iron Pipe Fittings from the People's Republic of China: Notice of Rescission of Antidumping Duty Administrative Review

AGENCY: Import Administration, International Trade Administration, Department of Commerce.

EFFECTIVE DATE: March 5, 2007.

FOR FURTHER INFORMATION CONTACT: Jennifer Moats, AD/CVD Operations, Office 8, Import Administration, Room 1870, International Trade Administration, U.S. Department of Commerce, 14th Street and Constitution Avenue, NW, Washington, DC 20230; telephone: (202) 482-5047.

SUPPLEMENTARY INFORMATION:

Background

On December 1, 2006, the Department of Commerce (“the Department”) published a notice of opportunity to request an administrative review of the antidumping duty order on malleable cast iron pipe fittings from the People's Republic of China (“PRC”). See Antidumping or Countervailing Duty Order, Finding, or Suspended Investigation: Opportunity to Request Administrative Review, 71 FR 69543 (December 1, 2006). On December 15, 2006, Beijing Sai Lin Ke Hardware Co., Ltd. (“SLK”) requested that the Department conduct a review of its sales and entries of subject merchandise into the United States. On January 3, 2007, Mueller Comercial de México, D. de R.L. de C.V. (“Mueller”) requested that the Department conduct an administrative review of its sales and entries of subject merchandise into the United States. On January 4, 2007, SLK withdrew its request for review. On January 31, 2007, Mueller withdrew its request for an administrative review.¹ No other parties requested a review. On February 2, 2007, the Department published the Initiation Notice covering Mueller, and issued an antidumping duty questionnaire to Mueller for the administrative review of the antidumping duty order on malleable cast iron pipe fittings from the PRC with respect to Mueller for the period December 1, 2005, through November 30, 2006.

¹ Although Mueller submitted its withdrawal of its request for review before the Initiation of Antidumping and Countervailing Duty Administrative Reviews and Requests for Revocation in Part, 72 FR 5005 (February 2, 2007) (“Initiation Notice”), published in the Federal Register, Mueller's withdrawal was submitted after the Initiation Notice had been transmitted to the Federal Register for publication.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Mueller timely withdrew its request before the 90-day deadline. Therefore, we are rescinding this review of the antidumping duty order on malleable cast iron pipe fittings from the PRC covering the period December 1, 2005, through November 30, 2006. The Department intends to issue assessment instructions to U.S. Customs and Border Protection 15 days after of publication of this rescission.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 27, 2007.
Stephen J. Claeys,
Deputy Assistant Secretary for Import Administration.

[FR Doc. E7-3797 Filed 3-2-07; 8:45 am]

BILLING CODE 3510-DS-S